DEPARTMENT OF THE INTERIOR

Bureau of Reclamation

Safety Modifications and Flood Damage Reduction Project for Folsom Dam and Appurtenant Structures (Combined Federal Effort)—Sacramento, El Dorado, and Placer Counties, CA

AGENCY: Bureau of Reclamation, Interior.

ACTION: Notice of additional public scoping meeting.

SUMMARY: Pursuant to section 102(2)(c) of the National Environmental Policy Act of 1969 (NEPA) and Public Resources Code, sections 21000-21177 of the California Environmental Quality Act (CEQA), the Bureau of Reclamation (Reclamation), the lead Federal agency; the U.S. Army Corps of Engineers, a cooperating Federal agency; and the California Reclamation Board/Department of Water Resources, the lead State agencies; intend to prepare a joint Draft Environmental Impact Statement/Environmental Impact Report (Draft EIS/EIR) for the Safety Modifications and Flood Damage Reduction Project for Folsom Dam and Appurtenant Structures (Combined Federal Effort).

The notice of intent to prepare an environmental impact statement (EIS) and notice of public scoping meetings was published in the Federal Register on October 6, 2005 (70 FR 58469). A notice of change to public scoping meeting dates and locations was published in the Federal Register on December 2, 2005 (70 FR 72314). Reclamation will have an additional scoping meeting on December 15, 2005.

DATES: The additional meeting will be on December 15, 2005, from 5 to 7 p.m. in Sacramento, CA.

ADDRESSES: The added location is County Administration Center, Board Chamber Foyer, 700 H Street, Sacramento, CA.

FOR FURTHER INFORMATION CONTACT: Mr. Shawn Oliver, Bureau of Reclamation, 7794 Folsom Dam Road, Folsom, California 95630; telephone number (916) 989-7256; e-mail soliver@mp.usbr.gov.

Dated: December 2, 2005.
Frank Michny,
Regional Environmental Officer, Mid-Pacific Region.

[FR Doc. E5-7294 Filed 12-13-05; 8:45 am]

BILLING CODE 4310-MN-P